ENVIRONMENTAL PROTECTION AGENCY

[EPA-HQ-OPPT-2017-0026; FRL-9968-03]

Compliance Date Extension; Statutory Requirements for Substantiation of Confidential Business Information (CBI) Claims Under the Toxic Substances Control Act (TSCA)

AGENCY: Environmental Protection Agency (EPA).

ACTION: Notice.

SUMMARY: EPA is extending the compliance dates published in the Federal Register on January 19, 2017 and previously extended in the Federal Register on February 21, 2017. Specifically, the Agency set September 19, 2017 as the deadline by which submitters of TSCA submissions containing information claimed as CBI and filed between June 22, 2016 and March 21, 2017 had to submit to EPA the substantiation required by TSCA section 14(c)(3) for all information claimed as confidential, other than information exempt from substantiation pursuant to TSCA section 14(c)(2). The Agency is now giving submitters until October 19, 2017 to provide the substantiations to EPA.

DATES: For TSCA submissions containing information claimed as CBI that was filed between June 22, 2016 and March 21, 2017, submitters have until October 19, 2017 to provide the required substantiation.

ADDRESSES: The docket for this action, identified by docket identification (ID) number EPA-HQ-OPPT-2017-0026, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: For technical information contact: Scott Sherlock, Attorney Advisor, Environmental Assistance Division, Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

This announcement is directed to the public in general. It may, however, be of particular interest to you if you manufacture (defined by statute to include import) and/or process chemicals covered by TSCA (15 U.S.C. 2601 et seq.). This may include businesses identified by the North American Industrial Classification System (NAICS) codes 325 and 32411. Because this action is directed to the general public and other entities may also be interested, the Agency has not attempted to describe all the specific entities that may be interested in this action. If you have any questions regarding the applicability of this action to a particular entity, consult the technical person listed under FOR FURTHER INFORMATION CONTACT.

II. What action is the agency taking?

EPA is extending the compliance dates published in the Federal Register on January 19, 2017, and previously extended in the Federal Register on February 21, 2017. Specifically, the Agency is now giving those submitters until October 19, 2017, to submit the substantiations required by TSCA section 14(c)(3). This extension is in response to concerns raised by industry stakeholders regarding the ability for companies to meet the previous September 19, 2017, deadline due to recent severe weather events. EPA is providing this additional flexibility for stakeholders because of the impacts of hurricanes Harvey and Irma.

For more detail on the requirements of TSCA section 14(c)(3) and how to comply with those requirements, see the Federal Register on January 19, 2017 (82 FR 6522) (FRL-9958-34) and the Federal Register on February 21, 2017 (82 FR 11218) (FRL-9959-39).

III. What is the agency's authority for taking this action?

EPA has determined that TSCA section 14(c)(3), 15 U.S.C. 2613(c)(3), requires an affected business to substantiate all TSCA CBI claims, except for information subject to TSCA section 14(c)(2), at the time the affected business submits the claimed information to EPA.

TSCA section 14(c)(1)(a) requires an affected business to assert a claim for protection from disclosure concurrent with submission of the information in accordance with existing or future rules. TSCA section 14(c)(3) in turn requires an affected business submitting a claim to protect information from disclosure to substantiate the claim, also in accordance with existing or future rules.

Because EPA published its interpretation that TSCA section 14(c)(3) requires up front substantiation after some companies had already asserted confidentiality claims subject to TSCA section 14(c)(3), the Agency set a future deadline for submission of substantiations pertaining to those submissions. This notice extends that deadline.

Authority: 15 U.S.C. 2601 et seq.

Dated: September 14, 2017.
Nancy B. Beck,
Deputy Assistant Administrator, Office of Chemical Safety and Pollution Prevention.

[FR Doc. 2017-20046 Filed 9-15-17; 4:15 pm]

BILLING CODE 6560-50-P